DEPARTMENT OF ENERGY

Federal Energy Regulatory Commission

[Docket No. EC03-64-000, et al.]

Mill Run Windpower LLC, et al.; Electric Rate and Corporate Filings

March 12, 2003.

The following filings have been made with the Commission. The filings are listed in ascending order within each docket classification.

1. Mill Run Windpower LLC and FPL Energy Pennsylvania Wind, LLC

[Docket No. EC03-64-000]

Take notice that on March 7, 2003, Mill Run Windpower LLC (Mill Run) and FPL Energy Pennsylvania Wind, LLC (FPL Wind) (collectively Applicants) filed with the Federal Energy Regulatory Commission (Commission) a joint application pursuant to Section 203 of the Federal Power Act for authorization of a disposition of jurisdictional facilities whereby Applicants request approval of the transfer of 100% of the membership interests in Mill Run from Atlantic Renewable Energy Corporation and Zilkha Renewable Energy, LLC to FPL Wind.

Mill Run states that it is engaged exclusively in the business of owning and operating a 15 MW wind-powered electric generating facility located in Springfield and Stewart Townships, Fayette County, Pennsylvania (the Facility), and selling its capacity and energy at wholesale to Exelon Generation Company LLC. The Applicants request privileged treatment by the Commission of the detailed Membership Interest Purchase Agreement between Zilkha Renewable Energy, LLC and FPL Wind which governs the proposed transfer.

Comment Date: March 28, 2003.

2. Brookhaven Energy Limited Partnership

[Docket No. EG03-42-000]

Take notice that on March 7, 2003, Brookhaven Energy Limited Partnership (Brookhaven Energy), a Delaware limited partnership with its principal place of business in Houston, Texas, filed with the Federal Energy Regulatory Commission (Commission) an application for determination of exempt wholesale generator status pursuant to part 365 of the Commission's regulations.

Brookhaven Energy states that it intends to construct, own and operate a 540-MW power generation facility located in Brookhaven, New York (the Facility). When completed, the Facility will be interconnected to the transmission system of the Long Island Power Authority. The Facility is expected to begin commercial operation by July 2005.

Comment Date: April 1, 2003.

3. Maine Public Service Company

[Docket Nos. ER00-1053-008]

Take notice that on March 7, 2003, Maine Public Service Company (MPS) submitted revisions to its Open Access Transmission Tariff (OATT) to implement an Agreement Regarding Maine Public Service Company's 2002 Informational Filing (Agreement). MPS proposes that the OATT revisions become effective June 1, 2002.

MPS states that copies of this filing were served on the parties to the proceeding, parties to the Settlement Agreement in Docket No. ER00-1053-000, the Commission Trial Staff, the Maine Public Utilities Commission, the Maine Public Advocate, and current MPS open access transmission tariff customers.

Comment Date: March 28, 2003.

4. Duke Energy Oakland, LLC and Duke Energy South Bay, LLC

[Docket Nos. ER02-10-004, ER98-496-014, ER02-239-004, ER02-240-004 and ER02-1478-003]

Take notice that on March 6, 2003, Duke Energy South Bay, LLC (Duke South Bay) and Duke Energy Oakland, LLC (Duke Oakland) submitted refund reports to the Federal Energy Regulatory Commission (Commission) in response to the Commission's November 21, 2002 Order in the above-referenced Dockets.

Comment Date: March 27, 2003.

5. TXU Pedricktown Cogeneration Company LP

[Docket No. ER03-256-002]

Take notice that on March 7, 2003, TXU Pedricktown Cogeneration Company LP (TXU Pedricktown), tendered for filing with the Federal Energy Regulatory Commission (Commission) a correction of its first revised market-based rate tariff (Tariff) that was filed on January 10, 2003. The correction reflects a slight change to paragraph seven (7) “Affiliate Sales Prohibited” of its Tariff to comply with the Commission Staff's request for a language change. TXU Pedricktown is requesting an effective date of December 3, 2002 for its first revised Tariff.

Comment Date: March 21, 2003.

6. Central Maine Power Company

[Docket No. ER03-349-001]

Take notice that on March 7, 2003, Central Maine Power Company (CMP), filed with the Federal Energy Regulatory Commission (Commission), pursuant to Section 205 of the Federal Power Act, and the Commission's February 14, 2003 Letter Order, an unredacted form of the executed S.D. Warren Somerset Entitlement Agreement, effective as of March 1, 2003, and designated as Original FERC Rate Schedule No. 201.

Comment Date: March 28, 2003.

7. Midwest Independent Transmission System Operator, Inc.

[Docket Nos. ER03-366-002 and ER03-368-003]

Take notice that on March 7, 2003, the Midwest Independent Transmission System Operator, Inc. (Midwest ISO) tendered for filing proposed revisions to the Midwest ISO Open Access Transmission Tariff, FERC Electric Tariff, Second Revised Volume No. 1, in compliance with the Commission's Order in Midwest Independent Transmission System Operator Inc., 102 FERC § 61,181 (2003). The Midwest ISO has requested an effective date of 15 days after the Commission rules on whether the Network Integration Transmission Service Agreement between Consumers Energy Company and Michigan Electric Transmission Company dated April 1, 2002 is a Service Agreement under the Midwest ISO OATT or a Grandfathered Agreement under Attachment P of the Midwest ISO OATT.

The Midwest ISO has served copies of its filing on all affected customers. In addition, the Midwest ISO states it has electronically served a copy of this filing, without attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at www.midwestiso.org under the heading “Filings to FERC” for other interested parties in this matter. The Midwest ISO states it will provide hard copies to any interested parties upon request.

Comment Date: March 28, 2003.

8. Sierra Pacific Power Company

[Docket No. ER03-429-001]

Take notice that on March 7, 2003, Sierra Pacific Power Company (Sierra Pacific), submitted for filing supplemental information and an amendment to the Power Purchase Agreement (PPA) between Sierra Pacific and its affiliate, Nevada Power Company, that was filed with the Commission in the above-referenced docket on January 17, 2003. Sierra Pacific requested confidential treatment of certain of the supplemental information and expedited consideration of the request for approval of the PPA.

Comment Date: March 21, 2003.

9. Nevada Power Company

[Docket No. ER03-430-001]

Take notice that on March 7, 2003, Nevada Power Company (Nevada Power), submitted for filing supplemental information regarding five power purchase agreements (PPAs) between Nevada Power and its affiliate, Sierra Pacific Power Company, that were filed in the above-referenced docket on January 17, 2003. Nevada Power requested confidential treatment of certain of the supplemental information and expedited consideration of the request for approval of the PPAs.

Comment Date: March 21, 2003.

10. Automated Power Exchange, Inc.

[Docket No. ER03-559-001]

Take notice that on March 7, 2003, Automated Power Exchange, Inc. (APX) tendered for filing pursuant to 18 CFR 385.205, an Amended Application for Order Accepting Rate Schedule, Granting Authorizations and Blanket Authority and Waving Certain Requirements. The amended application replaces the application APX filed in this docket on February 26, 2003.

Comment Date: March 28, 2003.

11. Louisville Gas and Electric Company/Kentucky Utilities

[Docket No. ER03-598-000]

Take notice that on March 7, 2003, Louisville Gas and Electric Company (LG&E)/Kentucky Utilities (KU) (hereinafter Companies) tendered for filing with the Federal Energy Regulatory Commission (Commission) an unexecuted unilateral Service Sales Agreement between Companies and Kansas City Power and Light (KCPL) under the Companies' Rate Schedule MBSS.

Comment Date: March 28, 2003.

12. Cross-Sound Cable Company, LLC

[Docket No. ER03-600-000]

Take notice that on March 3, 2003, Cross-Sound Cable Company, LLC (CSC LLC) filed revised procedures for customers to reassign their firm transmission rights over the Cross Sound Cable (CSC). TransÉnergie U.S., Ltd. filed procedures for the reassignment of CSC transmission rights in Docket No. ER00-1-002 on July 3, 2000 in compliance with the Commission's June 1, 2000 order, 91 FERC § 61,230 approving negotiated rates for transmission service over the CSC. CSC LLC requests that the Commission allow the new reassignment right procedures to become effective March 3, 2003.

CSC LLC states that a copy of this filing has been mailed to each person designated on the official service list complied by the Secretary of the Commission in Docket No. ER00-1-002.

Comment Date: March 24, 2003.

13. San Diego Gas & Electric Company

[Docket No. ER03-601-000]

Take notice that on March 7, 2003, San Diego Gas & Electric Company (SDG&E) tendered for filing a revised Transmission Owner Tariff (TO Tariff), FERC Electric Tariff, Original Volume No. 10. SDG&E states that the proposed change would increase the charges to End Use Customers by $32.3 million based on the 12-month period ending April 30, 2004.

SDG&E states that the amendment to the TO Tariff is being made so that the TO Tariff will more accurately recover SDG&E's actual transmission revenue requirement. In addition, SDG&E states that it is revising the TO Tariff to adopt a formula rated to derive charges for transmission services. An effective date of May 1, 2003 has been requested for this amendment.

SD&G states that copies of the filing were served on the California Public Utilities Commission, the California Independent System Operator.

Comment Date: March 28, 2003.

14. West Penn Power Company

[Docket No.ER03-602-000]

Take notice that on March 7, 2003, West Penn Power Company, d/b/a Allegheny Power, filed Addenda to its Electric Service Agreement with PPL Electric Utilities Corporation, formerly Pennsylvania Power & Light Company, to add three delivery points. An effective date for the new delivery points of March 10, 2003 is requested.

West Penn Power Company states that copies of the filing have been provided to the customer, the Public Utilities Commission of Ohio, the Pennsylvania Public Utility Commission, the Maryland Public Service Commission, the Virginia State Corporation Commission, and the West Virginia Public Service Commission.

Comment Date: March 28, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-6016 Filed 3-18-03; 8:45 am]

BILLING CODE 6717-01-P